NATIONAL SCIENCE FOUNDATION

Advisory Panel for Methods, Cross-Directorate and Science and Society; Notice of Meetings

In accordance with the Federal Advisory Committee Act (Pub. L. 92-463, as amended), the National Science Foundation (NSF) announces the following five meetings of the Advisory Panel for Methods, Cross-Directorate and Science and Society (#1760):

1. Date & Time: April 27th; 8 a.m. to 5 p.m.

Place: National Science Foundation, 4201 Wilson Boulevard, Arlington, VA Rm. 970.

Contact Person: Dr. Cheryl Eavey, Program Director for Methodology, Measurements and Statistics (MMS) Program, National Science Foundation, 4201 Wilson Boulevard, Suite 995, Arlington, VA 22230. Telephone: (703) 292-7269.

Agenda: To review and evaluate MMS proposals as part of the selection process for awards.

2. Date & Time: April 30th 2001; 8 a.m. to 5 p.m. Rm. 970.

Contact Person: Dr. Cheryl Eavey, Program Director for Methodology, Measurements and Statistics (MMS) Program, National Science Foundation, 4201 Wilson Boulevard, Suite 995, Arlington, VA 22230. Telephone (703) 292-7269.

Agenda: To review and evaluate Survey Methods proposals as part of the selection process for awards.

3. Date & Time: May 11th, 2001; 8 a.m. to 5 p.m. Rm. 970.

Contact Person: Dr. Cheryl Eavey, Program Director for Methodology, Measurements and Statistics (MMS) Program, National Science Foundation, 4201 Wilson Boulevard, Suite 995, Arlington, VA 22230. Telephone (703) 292-7269.

Agenda: To review and evaluate Survey Methods proposals as part of the selection process for awards.

4. Date & Time: May 14th-15th, 2001; 8 a.m. to 5 p.m. Rm. 920.

Contact Person: Dr. Rachelle D. Hollander, Program Director for Societal Dimensions of Engineering, Science and Technology Program, National Science Foundation, 4201 Wilson Boulevard, Suite 995, Arlington, VA 22230. Telephone (703) 292-7272.

Agenda: To review and evaluate SDEST proposals as part of the selection process for awards.

5. Date & Time: May 18-19, 2001; 8 a.m. to 5 p.m. Rm. 970.

Contact Person: Dr. Bruce Seely & Dr. John Perhonis, Program Directors for Science and Technology Studies Program, National Science Foundation, 4201 Wilson Boulevard, Suite 995, Arlington, VA 22230. Telephone (703) 292-7279.

Agenda: To review and evaluate STS proposals as part of the selection process for awards.

Type of Meetings: Closed.

Purpose of Meetings: To provide advice and recommendations concerning support for research proposals submitted to the NSF for financial support.

Reason for Closing: The proposals being reviewed include information of a proprietary or confidential nature, including technical information; financial data, such as salaries; and personal information concerning individuals associated with the proposals. These matters are exempt under 5 U.S.C. 552b(c) (4) and (6) of the Government in the Sunshine Act.

Dated: April 3, 2001.
Susanne Bolton,
Committee Management Officer.

[FR Doc. 01-8540 Filed 4-5-01; 8:45 am]

BILLING CODE 7555-01-M